SECURITIES AND EXCHANGE COMMISSION

[File No. 812-12110; Release No. 24619/August 23, 2000]

Investment Company Act of 1940; In the Matter of Nationwide Separate Account Trust, et al.; Nationwide Insurance, One Nationwide Plaza, 1-35-13, Columbus, OH 43215

Correction

In Federal Register Document No. 00-22113 beginning on page 52794 for Wednesday, August 30, 2000, the file number was incorrectly stated as 812-11942. The correct file number is 812-12110.

Dated: September 7, 2000.
Margaret H. McFarland,
Deputy Secretary.

[FR Doc. 00-23484 Filed 9-12-00; 8:45 am]

BILLING CODE 8010-01-M